DEPARTMENT OF HEALTH AND HUMAN SERVICES

National Institutes of Health

National Cancer Institute; Amended Notice of Meeting

Notice is hereby given of a change in the meeting of the National Cancer Institute Special Emphasis Panel, February 18, 2004, 7 p.m. to February 20, 2004, 1 p.m., Hilton Houston Plaza at Medical Center, 6633 Travis Street, Houston, TX, 77030 which was published in the Federal Register on January 22, 2004, 69 FR 3157-3158.

The meeting is being amended due to meeting location changed from Hilton Houston Plaza at Medical Center Houston, TX, to Radisson Hill Country Resort & Spa San Antonio, TX. The meeting is closed to the public.

Dated: February 13, 2004.
LaVerne Y. Stringfield,
Director, Office of Federal Advisory Committee Policy.

[FR Doc. 04-3838 Filed 2-20-04; 8:45 am]

BILLING CODE 4140-01-M